DEPARTMENT OF ENERGY

Federal Energy Regulatory Commission

[Docket No. RP10-30-000]

Texas Eastern Transmission, LP; Notice of Technical Conference

November 9, 2009.

In Texas Eastern Transmission, LP, 129 FERC ¶ 61,088, at Ordering Paragraph (B) (2009), the Commission directed that a technical conference be held to address issues raised by Texas Eastern Transmission, LP's proposed gas quality and interchangeability specifications, in the above-captioned proceeding.

Take notice that a technical conference will be held on Tuesday, December 8, 2009, at 10 a.m. (EST), in a room to be designated at the offices of the Federal Energy Regulatory Commission, 888 First Street, NE., Washington, DC 20426.

FERC conferences are accessible under section 508 of the Rehabilitation Act of 1973. For accessibility accommodations please send an e-mail to accessibility@ferc.gov or call toll free (866) 208-3372 (voice) or 202-502-8659 (TTY), or send a fax to 202-208-2106 with the required accommodations.

All interested persons and staff are permitted to attend. For further information please contact David Maranville at (202) 502-6351 or e-mail David.Maranville@ferc.gov.

Nathaniel J. Davis, Sr.,
Deputy Secretary.

[FR Doc. E9-27477 Filed 11-16-09; 8:45 am]

BILLING CODE 6717-01-P